DEPARTMENT OF HEALTH AND HUMAN SERVICES

Health Resources and Services Administration

National Advisory Council on Migrant Health Notice of Meeting

AGENCY: Health Resources and Services Administration, HHS.

ACTION: Notice of meeting.

In accordance with section 10(a)(2) of the Federal Advisory Committee Act (Public Law 92-463), announcement is made of the following National Advisory body scheduled to meet during the month of March 2002:

Name: National Advisory Council on Migrant Health.

Date & Time: March 15, 2002; 9:00 a.m. to 5:00 p.m.; March 16, 2002; 9:00 a.m. to 5:00 p.m.

Place: Hilton Washington and Towers Hotel, 1919 Connecticut Avenue, NW., Washington, DC 20009, Phone: (202)483-3000; Fax (202)232-0428.

The meeting is open to the public.

Agenda: This will be a meeting of the Council. The agenda includes an overview of general Council business activities and priorities. Topics of discussion will include development of the Year 2002 recommendations and background statements. In addition, the Council will explore the area of mental health and migrant and seasonal farmworkers. Finally, the Council will be reviewing nominations for Council membership for terms beginning November 2002. The Council meeting is being held in conjunction with the National Association of Community Health Centers, 27th Annual Policy and Issues Forum.

Anyone requiring information regarding the subject Council should contact Margaret Davis, Migrant Health Program, staff support to the National Advisory Council on Migrant Health, Bureau of Primary Health Care, Health Resources and Services Administration, 4350 East-West Highway, Bethesda, Maryland 20814, Telephone 301/594-0291.

Agenda items are subject to change as priorities indicate.

Dated: February 8, 2002.
Jane M. Harrison,
Director, Division of Policy Review and Coordination.

[FR Doc. 02-3616 Filed 2-13-02; 8:45 am]

BILLING CODE 4165-15-P